FEDERAL MARITIME COMMISSION

Ocean Transportation Intermediary License Applicants

The Commission gives notice that the following applicants have filed an application for an Ocean Transportation Intermediary (OTI) license as a Non-Vessel-Operating Common Carrier (NVO) and/or Ocean Freight Forwarder (OFF) pursuant to section 19 of the Shipping Act of 1984 (46 U.S.C. 40101). Notice is also given of the filing of applications to amend an existing OTI license or the Qualifying Individual (QI) for a licensee.

Interested persons may contact the Office of Ocean Transportation Intermediaries, Federal Maritime Commission, Washington, DC 20573, by telephone at (202) 523-5843 or by email at OTI@fmc.gov.

Clark Worldwide Transportation, Inc. (NVO & OFF), 121 New York Avenue, Trenton, NJ 08638, Officers: Cornelius A. Dale, Vice President (QI), Charles H. Fischer III, President, Application Type: QI Change.

CNC Worldwide, Inc. (NVO), 5343 W. Imperial Highway, Suite 300, Los Angeles, CA 90045, Officers: Eric Cheon, Secretary (QI), Henry Kim, President, Application Type: QI Change.

Defined Logistics, LLC (NVO & OFF), 898 Carol Court, Carol Stream, IL 60188, Officers: Jennifer Wolski, Chief Compliance Officer (QI), Steve Walton, President, Application Type: New NVO & OFF License.

Freight Options dba Freight Consolidation Services (OFF), 446 Cloverleaf Drive, Baldwin Park, CA 91706, Officers: Alexander C. Sahagun, President (QI), Julian L. de Vera, Chief Finance Officer, Application Type: New OFF License.

Jolaco International Procurement Inc. (NVO), 20180 Park Row, Suite 6567, Katy, TX 77449, Officers: Frederick D. Coker, President (QI), Toni R. Coker, Secretary, Application Type: New NVO License.

Mohammad Abdullatif Bagegni dba Coastal Auto Exporters (NVO & OFF), 23 Balcom Road, Pelham, NH 03076, Officer: Mohammad Bagegni, Sole Proprietor (QI) , Application Type: Add NVO Service.

By the Commission.
Dated: May 5, 2013.
Karen V. Gregory,
Secretary.

[FR Doc. 2013-10994 Filed 5-8-13; 8:45 am]

BILLING CODE 6730-01-P